NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by August 23, 2021. This application may be inspected by interested parties at the Permit Office, address below.

ADDRESSES: Comments should be addressed to Permit Office, Office of Polar Programs, National Science Foundation, 2415 Eisenhower Avenue, Alexandria, Virginia 22314.

FOR FURTHER INFORMATION CONTACT: Polly Penhale, ACA Permit Officer, at the above address, 703-292-7420, or ACApermits@nsf.gov.

SUPPLEMENTARY INFORMATION: The National Science Foundation, as directed by the Antarctic Conservation Act of 1978 (Pub. L. 95-541, 45 CFR 670) as amended by the Antarctic Science, Tourism and Conservation Act of 1996, has developed regulations for the establishment of a permit system for various activities in Antarctica and the designation of certain animals and certain geographic areas a requiring special protection.

Application Details

Permit Application: 2022-001

1. Applicant: Luis Huckstadt, Institute of Marine Sciences, University of California Santa Cruz.

Activity for Which Permit is Requested: Take, Harmful interference, Import into U.S.A. The applicant proposes to study the foraging behavior, physiology, and habitat utilization of crabeater seals in the West Antarctic Peninsula. In each of three field seasons, the applicant would capture and tag no more than 40 adult individuals. Individual seals will be sedated and anesthetized during tagging and biological sampling procedures. Proposed procedures include the following: Weighing and measuring of individuals, flipper tagging and marking, attaching of instrumentation, tissue sampling, collecting blood samples and measuring blood volume, swabbing of mucous membranes, and determining body composition by metamorphic measurements.

Location: West Antarctic Peninsula.

Dates of Permitted Activities: January 1, 2022-December 31, 2024.

Erika N. Davis,
Program Specialist, Office of Polar Programs.

[FR Doc. 2021-15042 Filed 7-22-21; 8:45 am]

BILLING CODE 7555-01-P